DEPARTMENT OF COMMERCE

National Institute of Standards and Technology

93rd Interim Meeting Notification of the National Conference on Weights and Measures

AGENCY: National Institute of Standards and Technology, Commerce.

ACTION: Notice of a public meeting of the Conference in January 2008.

SUMMARY: The Interim Meetings of the 93rd National Conference on Weights and Measures (NCWM) will be held January 27 to 30, 2008, in Albuquerque, New Mexico. The majority of the meetings are open to the public, but registration is required. The NCWM is an organization of weights and measures officials of the states, counties, and cities of the United States, federal agencies, and private sector representatives. These meetings bring together government officials and representatives of business, industry, trade associations, and consumer organizations on subjects related to the field of weights and measures technology, administration and enforcement. Pursuant to (15 U.S.C. 272(b)(6)), the National Institute of Standards and Technology (NIST) supports the NCWM as one of the means it uses to solicit comments and recommendations on revising or updating a variety of publications related to legal metrology. NIST participates to promote uniformity among the states in laws, regulations, methods, and testing equipment that comprise the regulatory control of commercial weighing and measuring devices and other practices used in trade and commerce. Publication of this notice on the NCWM's behalf is undertaken as a public service; NIST does not endorse, approve, or recommend any of the proposals contained in this notice or in the publications of the NCWM mentioned below. Please see NCWM Publication 15, which contains detailed meeting agendas and schedules, registration and hotel reservation information at http://www.ncwm.net.

DATES: January 27-30, 2008.

ADDRESSES: The Hyatt Regency Albuquerque, Albuquerque, New Mexico.

FOR FURTHER INFORMATION CONTACT: Carol Hockert, Chief, NIST, Weights and Measures Division, 100 Bureau Drive, Stop 2600, Gaithersburg, MD 20899-2600 or by telephone (301) 975-5507, or e-mail: Carol.Hockert@nist.gov.

SUPPLEMENTARY INFORMATION: The following are brief descriptions of some of the significant agenda items that will be considered along with other issues at the NCWM Interim Meeting. Comments will be taken on these and other issues during several public comment sessions. At this stage, the items are proposals. This meeting also includes work sessions in which the Committees may also accept comments and where they will finalize recommendations for NCWM consideration and possible adoption at its Annual Meeting to be held July 13 to 17, 2008, at the Sheraton Burlington Hotel in Burlington, Vermont. The Committees may withdraw or carry over items that need additional development.

The Specifications and Tolerances Committee will consider proposed amendments to NIST Handbook 44, “Specifications, Tolerances, and other Technical Requirements for Weighing and Measuring Devices (NIST Handbook 44).” Those items address weighing and measuring devices used in commercial measurement applications, that is, devices that are normally used to buy from or sell to the general public or used for determining the quantity of product sold among businesses. Issues on the agenda of the NCWM Laws and Regulations Committee relate to proposals to amend NIST Handbook 130, “Uniform Laws and Regulations in the area of legal metrology and engine fuel quality” and NIST Handbook 133 “Checking the Net Contents of Packaged Goods.” This notice contains information about significant items on the NCWM Committee agendas, but is not inclusive of all agenda items. As a result, the following items are not consecutively numbered.

NCWM Specifications and Tolerances Committee

The following items are proposals to amend NIST Handbook 44:

General Code

Item 310-2. Appendix D—Definition of Electronic Devices, Software-Based: This item removes the terms “built-for-purpose” and “not-built-for-purpose” and instead defines software-based devices as either “embedded software devices (Type P)” or “programmable or loadable metrological software devices (Type U)”.

Liquid-Measuring Devices

Item 330-1. Temperature Compensation for Liquid-Measuring Devices Code: This is a proposal to add provisions to Handbook 44 to allow retail motor fuel dispensers to be equipped with the automatic means to deliver product with the volume compensated to a reference temperature. (See also Item 232-1 below under the Laws and Regulations Committee.)

Vehicle Tank Meters

Item 331-1. Meter Size (Marking Requirements): This is a proposal to require meter size markings on vehicle tank meters, except for milk meters.

Item 331-3. Automatic Temperature Compensation for Refined Petroleum Products: This proposal adds provisions to Handbook 44, which defines the period of use and conditions of use when selling fuel through a device equipped with automatic temperature compensation capabilities.

Multiple Dimension Measuring Devices

Item 358-1. A.1. General., Note 7 in Table S.4.1.b., and Appendix D. Definitions: This proposal adds new definitions for a “hexahedron” and an “irregularly shaped object” and clarifies a complex marking requirement that currently exists in this code.

Items 358-2. Value of Dimension/Volume Division Value, 358-3 Position Test and 358-4 Test Objects: These proposals add requirements to those devices capable of measuring irregularly shaped objects.

NCWM Laws and Regulations Committee

The following item is a proposal to amend NIST Handbook 130:

Method of Sale of Commodities Regulation

Item 232-1. Temperature Compensation for Petroleum Products: Several proposals will be considered that would allow temperature compensation to take place on a voluntary or mandatory basis or limit compensation to metering systems with certain flow capacities or specific sales applications. Most of the proposals would allow compensation to occur only if certain conditions are met by the seller.

Item 232-2. Biodiesel and Fuel Ethanol Labeling: This item requires the identification and labeling of biodiesel fuels and blends at retail service stations.

Dated: December 19, 2007.
Richard F. Kayser,
Acting Deputy Director.

[FR Doc. E7-25609 Filed 1-3-08; 8:45 am]

BILLING CODE 3510-13-P